INTERNATIONAL TRADE COMMISSION

[USITC SE-08-029]

Sunshine Act Meeting Notice

Agency Holding the Meeting: United States International Trade Commission.

Time and Date: October 30, 2008 at 9:30 a.m.

Place: Room 101, 500 E Street SW., Washington, DC 20436, Telephone: (202) 205-2000.

Status: Open to the public.

Matters To Be Considered: 1. Agenda for future meetings: none

2. Minutes

3. Ratification List

4. Inv. Nos. 701-451 and 731-TA-1126-1127 (Final)(Certain Lightweight Thermal Paper from China and Germany)—briefing and vote. (The Commission is currently scheduled to transmit its determinations and Commissioners' opinions to the Secretary of Commerce on or before November 10, 2008.)

5. Outstanding action jackets: none

In accordance with Commission policy, subject matter listed above, not disposed of at the scheduled meeting, may be carried over to the agenda of the following meeting.

Issued: October 21, 2008.
By order of the Commission.
William R. Bishop,
Hearings and Meetings Coordinator.

[FR Doc. E8-25431 Filed 10-24-08; 8:45 am]

BILLING CODE 7020-02-P